DEPARTMENT OF DEFENSE

Office of the Secretary

Notice of the Defense Business Board Meeting—Correction

AGENCY: Department of Defense.

ACTION: Notice; correction.

SUMMARY: The Department of Defense published an Open Meeting notice on the Defense Business Board on July 22, 2005. This Notice is published to include justification for not publishing the Notice within the 15-day requirement.

Correction

In the Federal Register of July 22, 2005, page 36377 FR Doc. 05-14534, in the middle column, the last sentence in the SUMMARY is amended to read: “The delay in publishing this Notice was due to technical difficulties in obtaining the information.”

Dated: July 22, 2005.
Jeannette Owings-Ballard,
Alternate OSD Federal Register Liaison Officer, Department of Defense.

[FR Doc. 05-14846 Filed 7-26-05; 8:45 am]

BILLING CODE 5001-06-M